ENVIRONMENTAL PROTECTION AGENCY

40 CFR Parts 52 and 81

[EPA-R03-OAR-2005-0480; FRL-8197-1]

Approval and Promulgation of Air Quality Implementation Plans; West Virginia; Redesignation of the City of Weirton PM-10 Nonattainment Area to Attainment and Approval of the Maintenance Plan

AGENCY: Environmental Protection Agency (EPA).

ACTION: Final rule.

SUMMARY: EPA is approving a redesignation request and a State Implementation Plan (SIP) revision submitted by the State of West Virginia. This revision requests that EPA redesignate the Weirton nonattainment area (Weirton Area) to attainment for the national ambient air quality standards (NAAQS) for particulate matter with an aerodynamic diameter less than or equal to a nominal 10 micrometers (PM-10), and concurrently requests approval of a limited maintenance plan (LMP) as a revision to the West Virginia State Implementation (SIP). In this action, EPA is approving the State's request to redesignate the area from nonattainment to attainment, as well as approving the LMP for the Weirton Area.

DATES: Effective Date: This final rule is effective on August 14, 2006.

ADDRESSES: EPA has established a docket for this action under Docket ID Number EPA-R03-OAR-2005-0480. All documents in the docket are listed in the www.regulations.gov Web site. Publicly available docket materials are available either electronically through www.regulations.gov or in hard copy for public inspection during normal business hours at the Air Protection Division, U.S. Environmental Protection Agency, Region III, 1650 Arch Street, Philadelphia, Pennsylvania 19103. Copies of the State submittal are available at the West Virginia Department of Environmental Protection, Division of Air Quality, 601 57th Street, SE., Charleston, WV 25304.

FOR FURTHER INFORMATION CONTACT: Linda Miller, (215) 814-2068, or by e-mail at miller.linda@epa.gov.

SUPPLEMENTARY INFORMATION:

I. Background

On May 11, 2006 (71 FR 27440), EPA published a notice of proposed rulemaking (NPR) for the State of West Virginia. The NPR proposed approval of the LMP for the Weirton Area in West Virginia and the State's request to redesignate the area from nonattainment to attainment. EPA also proposed to determine that, because the Weirton Area has continued to attain the PM-10 NAAQS, certain attainment demonstration requirements, along with other related requirements of the CAA, are not applicable to the Weirton Area. West Virginia submitted a request to redesignate the Weirton Area to attainment for PM-10 and a SIP submittal for the related maintenance plan on May 24, 2004.

II. Summary of SIP Revision

On May 16, 2001 (66 FR 27034), EPA promulgated a final rule entitled, “Determination of Attainment of the NAAQS for PM-10 in the Weirton, West Virginia Nonattainment Area” finding that the Weirton PM-10 nonattainment had attained the NAAQS for PM-10 by its applicable December 31, 2000 attainment date. In order to be redesignated from nonattainment to attainment, West Virginia requested, in a letter dated October 14, 2003, that EPA apply its clean data policy to the Weirton Area. The redesignation request, dated May 24, 2004, included the associated SIP submittal of the maintenance plan for the Weirton area.

Other specific requirements of the request for redesignation and the associated rationale and the rationale for EPA's proposed action are explained in the NPR and will not be restated here. EPA received one comment in support of the proposed approval.

III. Final Action

EPA is approving the PM-10 redesignation request for the Weirton Area, and also approving the associated limited maintenance plan as a revision to the West Virginia SIP.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal requirement, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action to approve the redesignation request for the Weirton nonattainment area and approve the associated maintenance plan as a revision to the SIP must be filed in the United States Court of Appeals for the appropriate circuit by September 12, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Intergovernmental relations, Reporting and Recordkeeping requirements, Particulate matter.

40 CFR Part 81

Air Pollution Control, National parks, Wilderness areas.

Dated: July 6, 2006.
William T. Wisniewski,
Acting Regional Administrator, Region III.

40 CFR Parts 52 and 81 are amended as follows:

PART 52—[AMENDED]

1. The authority citation for 40 CFR part 52 continues to read as follows:

Authority: 42 U.S.C. 7401 et seq.

Subpart XX—West Virginia

2. In § 52.2520, the table in paragraph (e) is amended by adding an entry for the City of Weirton PM-10 Maintenance Plan at the end of the table to read as follows:

§ 52.2520 Identification of plan.

* * * * *

(e) * * *

Name of non-regulatory SIP revision | Applicable geographic area | State submittal date | EPA approval date | Additional explanation
* * * * * * *
City of Weirton PM-10 Maintenance Plan | Hancock and Brooke Counties (part)—the City of Weirton | 4/24/04 | 7/14/06 [Insert page number where the document begins] | Limited maintenance plan.

PART 81—[AMENDED]

Subpart C—Section 107 Attainment Status Designations

1. The authority citation for Part 81 continues to read as follows:

Authority: 42 U.S.C. 7401 et seq.

2. In § 81.349, the table for “West Virginia—PM-10” is amended by revising the entry for Hancock and Brooke Counties (part): The City of Weirton to read as follows:

§ 81.349 West Virginia.

* * * * *

West Virginia—PM-10
Designated Area | Designation: Date | Designation: Type | Classification: Date | Classification: Type
* * * * * * *
Hancock and Brooke Counties (part): The City of Weirton | 9/12/06 | Attainment
* * * * * * *

* * * * *

[FR Doc. E6-11107 Filed 7-13-06; 8:45 am]

BILLING CODE 6560-50-P